DEPARTMENT OF HEALTH AND HUMAN SERVICES

National Institutes of Health

The Statement of Organization, Functions, and Delegations of Authority

The Statement of Organization, Functions, and Delegations of Authority Part N, National Institutes of Health (NIH), of the Statement of Organization, Functions, and Delegations of Authority for the Department of Health and Human Services (DHHS) (40 FR 22859, May 27, 1975, as amended most recently at 73 FR 28124, May 15, 2008, and redesignated from Part HN as Part N at 60 FR 56605, November 9, 1995), is amended as set forth below to reflect the reorganization of the Division of Program Coordination, Planning, and Strategic Initiatives, NIH.

Section N-B, Organization and Functions, under the heading “Division of Program Coordination, Planning, and Strategic Initiatives (NAW, formerly HNAW),” is amended as follows:

(1) Replace the current section NAW (NAW, formerly HNAW) with the following:

Division of Program Coordination, Planning, and Strategic Initiatives (NAW, formerly HNAW). (1) Identifies and reports on research that represents important areas of emerging scientific opportunities, rising public health challenges, or knowledge gaps that deserve special emphasis and would benefit from conducting or supporting additional research that involves collaboration between two or more Institutes and Centers (ICs), or would otherwise benefit from strategic coordination and planning; (2) coordinates research and activities related to AIDS, behavioral and social sciences, women's health, disease prevention, rare diseases, and dietary supplements; (3) uses resources (databases, analytic tools, and methodologies) and develops specifications for new resources, when needed, to conduct assessments based on NIH and other databases in support of portfolio analyses and priority setting in scientific areas of interest across NIH; (4) serves as a resource for portfolio management at the programmatic level; (5) ensures that NIH addresses important areas of emerging scientific opportunities and public health challenges effectively; and (6) plans, conducts, coordinates, and supports program evaluations, including, but not limited to, IC-specific program and project evaluations; trans-NIH evaluations, including Roadmap initiatives; and systematic assessments required by the Government Performance and Results Act (GPRA) and the OMB Program Assessment Rating Tool (PART).

(2) Insert the following under the heading “Division of Program Coordination, Planning, and Strategic Initiatives (NAW, formerly HNAW)”:

Office of Strategic Coordination (NAW6, formerly HNAW6). (1) Integrates information and develops recommendations to inform the agency's priority-setting and decision-making processes with respect to strategic initiatives; (2) addresses exceptional scientific opportunities and emerging public health needs; (3) provides the NIH Director with the information needed to allocate resources effectively for trans-NIH efforts; and (4) identifies trans-NIH initiatives for consideration and evaluation by both outside advisors and NIH leadership.

(3) Delete in their entirety the following headed paragraphs: the “Office of Portfolio Analysis and Strategic Initiatives (NAW6, formerly HNAW6)”; the “Division of Resource Development and Analysis (NAW62, formerly HNAW62)”; the “Division of Strategic Coordination (NAW63, formerly HNAW63)”; and the “Division of Evaluation and Systematic Assessments (NAW64, formerly HNAW64).”

Delegations of Authority: All delegations and redelegations of authority to officers and employees of NIH which were in effect immediately prior to the effective date of this reorganization and are consistent with this reorganization shall continue in effect in such officers and employees or their successors, pending further redelegation.

Dated: October 31, 2008.
Elias A. Zerhouni,
Director, National Institutes of Health.

[FR Doc. E8-26635 Filed 11-7-08; 8:45 am]

BILLING CODE 4140-01-P